SMALL BUSINESS ADMINISTRATION

[GarMark SBIC Fund, L.P. License No. 01/01-0427]

Notice Seeking Exemption Under Section 312 of the Small Business Investment Act, Conflicts of Interest

Notice is hereby given that GarMark SBIC Fund, L.P., One Landmark Square, Floor 6 Stamford, CT 06901, a Federal Licensee under the Small Business Investment Act of 1958, as amended (“the Act”), in connection with the financing of a small concerns, has sought an exemption under Section 312 of the Act and Section 107.730, Financings which Constitute Conflicts of Interest of the Small Business Administration (“SBA”) Rules and Regulations (13 CFR 107.730). GarMark SBIC Fund, L.P., is proposing to provide financing to CAbi, LLC, 18915 South Laurel Park Road, Rancho Dominguez, California 90220. The financing will be used, in part, for working capital, to pay the seller, to pay off existing debt, and to pay fees and expenses.

The proposed transaction is brought within the purview of § 107.730 of the Regulations because CAbi, LLC. will be using financing proceeds from GarMark SBIC Fund, L.P., in part to discharge obligations to GarMark Partners II, L.P. which is an Associate of GarMark SBIC Fund, L.P., as defined at § 107.50 due to common management.

Therefore, the proposed transaction is considered self-deal pursuant to 13 CFR 107.730 and requires a regulatory exemption. Notice is hereby given that any interested person may submit written comments on the transaction within fifteen days of the date ofthis publication to Associate Administrator for Investment, U.S. Small Business Administration, 409 Third Street SW., Washington, DC 20416.

Dated: February 9, 2017.
Michele Schimpp,
Acting Associate Administrator for Investment and Innovation.

[FR Doc. 2017-03147 Filed 2-15-17; 8:45 am]

BILLING CODE P